FEDERAL COMMUNICATIONS COMMISSION

[CC Docket No. 92-237; DA 01-1125]

Resignation of John R. Hoffman, Chairman of the North American Numbering Council (NANC) and Cancellation of the May 22-23, 2001 NANC Meeting

AGENCY: Federal Communications Commission.

ACTION: Notice.

SUMMARY: On May 1, 2001, the Commission released a public notice announcing the resignation of John R. Hoffman, Chairman of the North American Numbering Council (NANC) and cancellation of the May 22-23, 2001 NANC meeting. The intended effect of this action is to make the public aware of the resignation of the NANC Chairman and cancellation of the May NANC meeting.

FOR FURTHER INFORMATION CONTACT: Deborah Blue, Special Assistant to the Designated Federal Officer (DFO) at (202) 418-2320 or dblue@fcc.gov. The address is: Network Services Division, Common Carrier Bureau, Federal Communications Commission, The Portals, 445 12th Street, SW., Suite 6A207, Washington, DC 20554. The fax number is: (202) 418-2345. The TTY number is: (202) 418-0484.

Federal Communications Commission.
Diane Griffin Harmon,
Acting Chief, Network Services Division, Common Carrier Bureau.

[FR Doc. 01-11242 Filed 5-3-01; 8:45 am]

BILLING CODE 6712-01-P